DEPARTMENT OF TRANSPORTATION

Federal Highway Administration

Notice of Final Federal Agency Actions on Proposed Transportation Projects in Florida

AGENCY: Federal Highway Administration (FHWA), DOT.

ACTION: Notice of Limitation of Claims for Judicial Review of Actions by FHWA, U.S. Army Corps of Engineers (USACE), and Other Federal Agencies.

SUMMARY: This notice announces actions taken by FHWA and other Federal Agencies since September 17, 2014, that are final within the meaning of 23 U.S.C. 139(l)(1). The actions relate to the proposed SR-20 (from US-301 to CR-315) in Alachua and Putnam Counties; Pensacola Bay Bridge, SR-30 (US-98, from 17th Avenue to Baybridge Drive) in Escambia and Santa Rosa Counties; Anna Maria Island Bridge, SR-64 (Manatee Avenue) (from west of SR-789 (East Bay Drive) to east of Perico Bay Blvd.) in Manatee County; Capital Circle SW (SR-263), (from US-319 (SR-61) (Crawfordville Highway) to SR-20 (Blountstown Highway) in Leon County, SR 90/Tamiami Trail (US Highway 41) in Miami-Dade County, Palm Bay Parkway Southern Interchange at I-95 in Brevard County, SR 710 (from SR 76 to Blue Heron Blvd. at I-95) in Martin and Palm Beach Counties, and US 301 (from CR 227 to CR 233) in Starke, Bradford County in the State of Florida. These actions grant licenses, permits, and approvals for the projects.

DATES: By this notice, FHWA is advising the public of final agency actions subject to 23 U.S.C. 139(l)(1). A claim seeking judicial review of the Federal agency actions on the listed highway projects will be barred unless the claim is filed on or before December 22, 2016. If the Federal law that authorizes judicial review of a claim provides a time period of less than 150 days for filing such claim, then that shorter time period still applies.

FOR FURTHER INFORMATION CONTACT: For FHWA: Ms. Cathy Kendall, AICP, Senior Environmental Specialist, FHWA Florida Division, 3500 Financial Plaza, Suite 400, Tallahassee, Florida 32312; telephone: (850) 553-2225; email: cathy.kendall@dot.gov . The FHWA Florida Division Office's normal business hours are 7:30 a.m. to 4:00 p.m. (Eastern Standard Time), Monday through Friday, except Federal holidays. For USACE: Mr. Andrew A. Kizlauskas, Chief, Panama City Permitting Section, U.S. Army Corps of Engineers, Panama City Regulatory Office, 1002 West 23rd Street, Suite 350, Panama City, Florida 32405; telephone: (850) 763-0717, Ext. 23; email: Andrew.A.Kizlauskas@usace.army.mil.

SUPPLEMENTARY INFORMATION: Notice is hereby given that FHWA and other Federal Agencies have taken final agency action by issuing licenses, permits, and approvals for the projects listed below. The actions by the Federal agencies on a project, and the laws under which such actions were taken, are described in the documented environmental assessment (EA) or environmental impact statement (EIS) issued in connection with the project, and in other project records for the listed projects. The EA or FEIS, Record of Decision (ROD), and other documents from FHWA and other Federal Agency project records for the listed projects are available by contacting the FHWA or by using the links provided below.

This notice applies to all Federal agency decisions by issuing licenses, permits, and approvals as of the issuance date of this notice and all laws under which such actions were taken, including but not limited to:

1. General: National Environmental Policy Act (NEPA) [42 U.S.C. 4321-4351; Federal-Aid Highway Act (FAHA) [23 U.S.C. 109 and 23 U.S.C. 128].

2. Air: Clean Air Act (CAA), 42 U.S.C. 7401-7671(q).

3. Land: Section 4(f) of the Department of Transportation Act of 1966 (4f) [49 U.S.C. 303 and 23 U.S.C. 138].

4. Wildlife: Endangered Species Act (ESA) [16 U.S.C. 1531-1544 and 1536]; Marine Mammal Protection Act [16 U.S.C. 1361], Fish and Wildlife Coordination Act [16 U.S.C. 661-667(d); Migratory Bird Treaty Act (MBTA) [16 U.S.C. 703-712]; Magnuson-Stevenson Fishery Conservation and Management Act of 1976, as amended [16 U.S.C. 1801 et seq.].

5. Historic and Cultural Resources: Section 106 of the National Historic Preservation Act of 1966, as amended (106) [16 U.S.C. 470(f) et seq.]; Archaeological Resources Protection Act of 1977 (ARPA) [16 U.S.C. 470(aa)-470(II)]; Archaeological and Historic Preservation Act (AHPA) [16 U.S.C. 469-469(c)]; Native American Grave Protection and Repatriation Act (NAGPRA) [25 U.S.C. 3001-3013].

6. Social and Economic: Civil Rights Act of 1964 (Civil Rights) [42 U.S.C. 20009(d)-2000(d)(1)]; American Indian Religious Freedom Act [42 U.S.C. 1996]; Farmland Protection Policy Act (FPPA) [7 U.S.C. 4201-4209].

7. Wetlands and Water Resources: Clean Water Act (Section 404, Section 401, Section 319) [33 U.S.C. 1251-1377]; Coastal Barriers Resources Act (CBRA) [16 U.S.C. 3501 et seq.]; Coastal Zone Management Act (CZMA) [16 U.S.C. 1451-1465]; Land and Water Conservation Fund (LWCF) [16 U.S.C. 4601-4604]; Safe Drinking Water Act (SDWA) [42 U.S.C. 300(f)-300(j)(6)]; Rivers and Harbors Act of 1899 [33 U.S.C. 401-406]; Wild and Scenic Rivers Act [16 U.S.C. 1271-1287]; Emergency Wetlands Resources Act [16 U.S.C. 3921, 3931]; Wetlands Mitigation, [23 U.S.C. 103(b)(6)(M) and 103(b)(11)]; Flood Disaster Protection Act [42 U.S.C. 4001-4128].

8. Executive Orders: E.O. 11990 Protection of Wetlands; E.O. 11988 Floodplain Management; E.O. 12898, Federal Actions to Address Environmental Justice in Minority Populations and Low Income Populations; E.O. 11593 Protection and Enhancement of Cultural Resources; E.O. 13287 Preserve America; E.O. 13175 Consultation and Coordination with Indian Tribal Governments; E.O. 11514 Protection and Enhancement of Environmental Quality; E.O. 13112 Invasive Species.

The projects subject to this notice are:

1. Project Location: Alachua and Putnam Counties, SR-20 (from US-301 to CR-315), Federal Project No: XA-400-1(43). Project type: The project will widen SR-20 from a two-lane rural roadway to a four-lane urban divided roadway from East of US-301 in the Town of Hawthorne to CR-315 in the Town of Interlachen. Corps Nationwide Permit verification 14 SAJ-2015-00890 issued 6 May 2015 (DOT-2-FPN 207818-2-52-01-SR20 Bridge/Culvert Replacement). The actions by FHWA and the laws under which such actions were taken are described in the Environmental Assessment (EA) and in the Finding of No Significant Impact (FONSI) issued on March 17, 2015, and are available by contacting Mr. Stephen Browning, PE., Project Development Engineer, Planning and Environmental Management Office, Mail Station 2007, 1109 South Marion Avenue, Lake City, Florida 32025, Phone Number: (386) 961-7455, Email Address: Stephen.Browning@dot.state.fl.us.

2. Project Location: Escambia and Santa Rosa Counties, Pensacola Bay Bridge, SR-30 (US-98) from 17th Avenue to Baybridge Drive), Federal Project No: 4221-078-P. Project type: The project involves the replacement of the existing 4-lane Pensacola Bay Bridge with a 6-lane bridge. The actions by FHWA and the laws under which such actions were taken are described in the EA and in the Finding of No Significant Impact (FONSI) issued on May 5, 2015, and are available at http://www.pensacolabaybridge.com/. Corps Regional General Permit 92 verification issued 30 March 2016 (DOT-3-FPN 413062-3-32-01-Section 2, SR 8 (I-10) from Escambia Bay Bridge to east of SR 281).

3. Project Location: Manatee County, Anna Maria Island Bridge, SR-64 (Manatee Avenue) from west of SR-789 (East Bay Drive) to east of Perico Bay Blvd., Federal Project No: 424436-1-21-01. Project type: The project involves the replacement of the existing two-lane double-leaf bascule Anna Maria Island Bridge (Bridge Number 130054) with a two-lane high rise fixed-span bridge on SR-64 (Manatee Avenue) crossing the Gulf Intracoastal Waterway. The actions by FHWA and the laws under which such actions were taken are described in the EA and in the Finding of No Significant Impact (FONSI) issued on January 15, 2016, and are available at http://www.annamariaislandbridge.com/.

4. Project Location: Leon County, Capital Circle SW (SR-263), (from US-319 (SR-61) (Crawfordville Highway) to SR-20 (Blountstown Highway), Financial Project No: 415782-4. Project type: This project involves widening the existing roadway from 2-lanes to 6-lanes. The actions by FHWA and the laws under which such actions were taken are described in the EA and in the Finding of No Significant Impact (FONSI) issued on January 14, 2016, and are available at http://blueprint2000.org/projects/capital-circle/.

5. Project Location: Miami-Dade County, SR 90/Tamiami Trail (US Highway 41). Project Type: The project will implement roadway modifications to restore more natural water flow to Everglades National Park and Florida Bay for the purpose of restoring habitat within the Park and ecological connectivity between the Park and Water Conservation Areas. The project limits are between milepost 13.87 and 24.62 (west of Krome Avenue). This project will not add through lanes. The project will remove approximately 5.5 miles of existing 2-lane roadway fill embankment and construct an equal length of 2-lane bridging to replace the removed embankment. Remaining roadway and fill embankment will be slightly raised in elevation. Corps Individual Permit SAJ-2014-01231 issued April 6, 2015, and is available at http://geo.usace.army.mil/egis/f?p=340:9:0::NO.

6. Project Location: Brevard County, Palm Bay Parkway Southern Interchange at I-95. Financial Project No: 426904-1-22-01 and 426904-1-22-02. Project Type: The project builds a new interchange that will directly connect the Palm Bay Parkway and Micco Road to I-95 just south of the City of Palm Bay in Brevard County. Corps Individual Permit SAJ-2009-01907 issued February 4, 2016, (DOT-5-FPN-426904-1-22-01), and is available at http://geo.usace.army.mil/egis/f?p=340:9:0::NO.

7. Project Location: Martin and Palm Beach Counties, SR 710 (from SR 76 to Blue Heron Blvd. at I-95). Project type: Adds capacity to SR 710 and provides a new urban interchange at Northlake Boulevard. Corps Individual Permit SAJ-2013-02593 issued September 17, 2014, and is available at http://geo.usace.army.mil/egis/f?p=340:9:0::NO.

8. Project Location: Starke, Bradford County, US 301 (from CR 227 to CR 233). Project type: Provides a 4 lane, limited-access 7.3 mile bypass around the City of Starke. Corps Individual Permit SAJ-2013-00113 issued March 4, 2016 (DOT-2-FPN 208001), and is available at http://geo.usace.army.mil/egis/f?p=340:9:0::NO.

(Catalog of Federal Domestic Assistance Program Number 20.205, Highway Planning and Construction. The regulations implementing Executive Order 12372 regarding intergovernmental consultation on Federal programs and activities apply to this program.)

Authority: 23 U.S.C. 139(l)(1)

James C. Christian,
Division Administrator, Federal Highway Administration, Tallahassee, Florida.

[FR Doc. 2016-17110 Filed 7-22-16; 8:45 am]

BILLING CODE 4910-RY-P